DEPARTMENT OF HEALTH AND HUMAN SERVICES

Agency for Toxic Substances and Disease Registry

[ATSDR-235]

Proposed Substances To Be Evaluated for Set 22 Toxicological Profiles

AGENCY: Agency for Toxic Substances and Disease Registry (ATSDR), Department of Health and Human Services (HHS).

ACTION: Request for comments on the proposed substances to be evaluated for Set 22 toxicological profiles.

SUMMARY: This notice announces the list of proposed substances that will be evaluated for CERCLA Set 22 toxicological profile development. ATSDR's Division of Toxicology and Environmental Medicine is soliciting public nominations from the list of proposed substances to be evaluated for toxicological profile development. ATSDR also will consider the evaluation of any additional substances that may have public health implications.

DATES: Nominations must be submitted within 30 days of the publication of this notice. The 30-day period begins October 26th, 2007 and ends November 26th, 2007.

ADDRESSES: Nominations may be submitted electronically, by mail, or by facsimile. Refer to the section Submission of Nominations (below) for specific addresses and/or the facsimile number.

FOR FURTHER INFORMATION CONTACT: Contact Commander Jessilynn B. Taylor, Division of Toxicology and Environmental Medicine, Agency for Toxic Substances and Disease Registry, Mailstop F-32, 1600 Clifton Road, NE., Atlanta, Georgia 30333, telephone (770) 488-3313.

SUPPLEMENTARY INFORMATION: The Superfund Amendments and Reauthorization Act of 1986 (SARA) [42 U.S.C. 9601 et seq.] amended the Comprehensive Environmental Response, Compensation, and Liability Act of 1980 (CERCLA or Superfund) [42 U.S.C. 9601 et seq.] by establishing certain requirements for ATSDR and the U.S. Environmental Protection Agency (EPA) with regard to hazardous substances that are most commonly found at facilities on the CERCLA National Priorities List (NPL). Among these statutory requirements is a mandate for the Administrator of ATSDR to prepare toxicological profiles for each substance included on the Priority List of Hazardous Substances. This list has identified 275 hazardous substances that ATSDR and EPA determined pose the most significant potential threat to human health. The availability of the revised list of the 275 priority substances was announced in the Federal Register on December 7, 2005 (70 FR 702840). For prior versions of the list of substances, see Federal Register notices dated April 17, 1987 (52 FR 12866); October 20, 1988 (53 FR 41280); October 26, 1989 (54 FR 43619); October 17, 1990 (55 FR 42067); October 17, 1991 (56 FR 52166); October 28, 1992 (57 FR 48801); February 28, 1994 (59 FR 9486); April 29, 1996 (61 FR 18744; November 17, 1997 (62 FR 61332); October 21, 1999 (64 FR 56792); October 25, 2001 (66 FR 54014) and November 7, 2003 (68 FR 63098).

Proposed Substances To Be Evaluated for Set 22 Toxicological Profiles

Each year, ATSDR develops a list of priority substances that will be evaluated for toxicological profile development. This list was compiled, on the basis of ATSDR's Priority List of Hazardous Substances, with consideration of the amount of relevance of newly published scientific literature. The following 73 substances will be evaluated:

| Substance name | CAS No.
1 | PERFLUOROOCTANOIC ACID | ⁽¹⁾
| PERFLUOROCYL SULFONATES | ⁽¹⁾
2 | MERCURY | 007439-97-6
| METHYLMERCURY | 022967-92-6
| MERCURIC CHLORIDE | 007487-94-7
3 | POLYCHLORINATED BIPHENYLS | 001336-36-3
| AROCLOR 1254 | 011097-69-1
| AROCLOR 1260 | 011096-82-5
| AROCLOR 1248 | 012672-29-6
| AROCLOR 1242 | 053469-21-9
| AROCLOR | 012767-79-2
| AROCLOR 1221 | 011104-28-2
| AROCLOR 1016 | 012674-11-2
| AROCLOR 1232 | 011141-16-5
| AROCLOR 1240 | 071328-89-7
| TETRACHLOROBIPHENYL | 026914-33-0
4 | CADMIUM | 007440-43-9
5 | POLYCYCLIC AROMATIC HYDROCARBONS | 130498-29-2
| BENZO(A)PYRENE | 000050-32-8
| BENZO(B)FLUORANTHENE | 000205-99-2
| DIBENZO(A,H)ANTHRACENE | 000053-70-3
| BENZO(A)ANTHRACENE | 000056-55-3
| BENZO(K)FLUORANTHENE | 000207-08-9
| BENZOFLUORANTHENE | 056832-73-6
| FLUORANTHENE | 000206-44-0
| CHRYSENE | 000218-01-9
| ACENAPHTHENE | 000083-32-9
| INDENO(1,2,3-CD)PYRENE | 000193-39-5
| BENZOPYRENE | 073467-76-2
| PHENANTHRENE | 000085-01-8
| PYRENE | 000129-00-0
| FLUORENE | 000086-73-7
| ANTHRACENE | 000120-12-7
| BENZO(A)FLUORANTHENE | 000203-33-8
| BENZO(GHI)PERYLENE | 000191-24-2
| ACENAPHTHYLENE | 000208-96-8
| BENZO(J)FLUORANTHENE | 000205-82-3
| BENZO(E)PYRENE | 000192-97-2
| BENZOPERYLENE | 011057-45-7
| BENZO(B)ANTHRACENE | 000092-24-0
| DIBENZ(A,J)ANTHRACENE | 000224-41-9
| BENZO(GHI)FLUORANTHENE | 000203-12-3
| 1-METHYLPYRENE | 002381-21-7
6 | CHLOROFORM | 000067-66-3
7 | DDT, P,P′- | 000050-29-3
| DDE, P,P′- | 000072-55-9
| DDD, P,P′- | 000072-54-8
| DDT, O,P′- | 000789-02-6
| DDD, O,P′- | 000053-19-0
| DDE, O,P′- | 003424-82-6
8 | TRICHLOROETHYLENE | 000079-01-6
9 | IELDRIN | 000060-57-1
| ALDRIN | 000309-00-2
10 | CHROMIUM, HEXAVALENT | 018540-29-9
| CHROMIUM(VI) OXIDE | 001333-82-0
| CHROMIUM | 007440-47-3
| CHROMIUM TRIOXIDE | 007738-94-5
| CHROMIUM, TRIVALENT | 016065-83-1
11 | CHLORDANE | 000057-74-9
| CIS-CHLORDANE | 005103-71-9
| TRANS-CHLORDANE | 005103-74-2
| OXYCHLORDANE | 027304-13-8
| GAMMA-CHLORDENE | 056641-38-4
| CHLORDANE, TECHNICAL | 012789-03-6
| ALPHA-CHLORDENE | 056534-02-2
| NONACHLOR, TRANS- | 039765-80-5
| NONACHLOR, CIS- | 005103-73-1
| CHLORDENE | 003734-48-3
12 | HEXACHLOROBUTADIENE | 000087-68-3
13 | COAL TAR CREOSOTE | 008001-58-9
| COAL TARS | 008007-45-2
| COAL TAR PITCH | 065996-93-2
14 | BENZIDINE | 000092-87-5
15 | TOXAPHENE | 008001-35-2
16 | TETRACHLOROETHYLENE | 000127-18-4
17 | 1,2-DIBROMOETHANE | 000106-93-4
18 | DISULFOTON | 000298-04-4
19 | 3,3′-DICHLOROBENZIDINE | 000091-94-1
20 | BERYLLIUM | 007440-41-7
21 | ENDRIN | 000072-20-8
| ENDRIN KETONE | 053494-70-5
| ENDRIN ALDEHYDE | 007421-93-4
22 | 1,2-DIBROMO-3-CHLOROPROPANE | 000096-12-8
| DIBROMOCHLOROPROPANE | 067708-83-2
23 | PENTACHLOROPHENOL | 000087-86-5
24 | DI-N-BUTYL PHTHALATE | 000084-74-2
25 | ENDOSULFAN SULFATE | 001031-07-8
| ENDOSULFAN | 000115-29-7
| ENDOSULFAN, ALPHA | 000959-98-8
| ENDOSULFAN, BETA | 033213-65-9
26 | METHOXYCHLOR | 000072-43-5
27 | METHANE | 000074-82-8
28 | TOLUENE | 000108-88-3
29 | 2-HEXANONE | 000591-78-6
30 | 2,3,7,8-TETRACHLORODIBENZO-P-DIOXIN | 001746-01-6
| HEXACHLORODIBENZO-P-DIOXIN | 034465-46-8
| HEPTACHLORODIBENZO-P-DIOXIN | 037871-00-4
| TETRACHLORODIBENZO-P-DIOXIN | 041903-57-5
| PENTACHLORODIBENZO-P-DIOXIN | 036088-22-9
| 1,2,3,4,6,7,8-HEPTACHLORODIBENZO-P-DIOXIN | 035822-46-9
| OCTACHLORODIBENZO-P-DIOXIN | 003268-87-9
| 1,2,3,6,7,8-HEXACHLORODIBENZO-P-DIOXIN | 057653-85-7
| 1,2,3,4,7,8-HEXACHLORODIBENZO-P-DIOXIN | 039227-28-6
| 1,2,3,7,8,9-HEXACHLORODIBENZO-P-DIOXIN | 019408-74-3
| 1,2,3,7,8-PENTACHLORODIBENZO-P-DIOXIN | 040321-76-4
31 | DI(2-ETHYLHEXYL)PHTHALATE | 000117-81-7
32 | 1,1-DICHLOROETHENE | 000075-35-4
33 | METHYLENE CHLORIDE | 000075-09-2
34 | 2,4,6-TRINITROTOLUENE | 000118-96-7
35 | BROMODICHLOROETHANE | 000683-53-4
36 | 1,2-DICHLOROETHANE | 000107-06-2
37 | 2,4,6-TRICHLOROPHENOL | 000088-06-2
| TETRACHLOROPHENOL | 025167-83-3
| 2,4-DICHLOROPHENOL | 000120-83-2
| 2,4,5-TRICHLOROPHENOL | 000095-95-4
| 2-CHLOROPHENOL | 000095-57-8
| 2,3,4,5-TETRACHLOROPHENOL | 004901-51-3
| 2,3,5,6-TETRACHLOROPHENOL | 000935-95-5
| 2,3,4,6-TETRACHLOROPHENOL | 000058-90-2
| 4-CHLOROPHENOL | 000106-48-9
| CHLOROPHENOL | 025167-80-0
38 | 2,4-DINITROPHENOL | 000051-28-5
39 | BIS(2-CHLOROETHYL) ETHER | 000111-44-4
40 | ASBESTOS | 001332-21-4
| CHRYSOTILE ASBESTOS | 012001-29-5
| AMOSITE ASBESTOS | 012172-73-5
41 | HEXACHLOROBENZENE | 000118-74-1
42 | RADIUM-226 | 013982-63-3
| RADIUM | 007440-14-4
| RADIUM-228 | 015262-20-1
| RADIUM-224 | 013233-32-4
43 | 2,4-DINITROTOLUENE | 000121-14-2
| DINITROTOLUENE | 025321-14-6
| 2,6-DINITROTOLUENE | 000606-20-2
44 | ETHION | 000563-12-2
45 | THORIUM | 007440-29-1
| THORIUM-230 | 014269-63-7
| THORIUM-228 | 014274-82-9
46 | 4,6-DINITRO-O-CRESOL | 000534-52-1
47 | RADON | 010043-92-2
| RADON-222 | 014859-67-7
| RADON-220 | 022481-48-7
48 | CHLOROBENZENE | 000108-90-7
49 | N-NITROSODI-N-PROPYLAMINE | 000621-64-7
50 | MANGANESE | 007439-96-5
| MANGANESE DIOXIDE | 001313-13-9
51 | POLONIUM-210 | 013981-52-7
52 | LEAD-210 | 014255-04-0
53 | CHLORPYRIFOS | 002921-88-2
54 | NEPTUNIUM-237 | 013994-20-2
55 | CHLORDECONE | 000143-50-0
| MIREX | 002385-85-5
56 | S,S,S-TRIBUTYL PHOSPHOROTRITHIOATE | 000078-48-8
57 | BROMINE | 007726-95-6
58 | 1,2,3-TRICHLOROBENZENE | 000087-61-6
59 | DICOFOL | 000115-32-2
60 | PARATHION | 000056-38-2
61 | TRICHLOROFLUOROETHANE | 027154-33-2
62 | TRIFLURALIN | 001582-09-8
63 | 4,4′-METHYLENEBIS(2-CHLOROANILINE) | 000101-14-4
64 | PENTACHLOROBENZENE | 000608-93-5
65 | 1,1-DICHLOROETHANE | 000075-34-3
66 | 1,1,2-TRICHLOROETHANE | 000079-00-5
67 | 1,2,3,4,6,7,8,9-OCTACHLORODIBENZOFURAN | 039001-02-0
| HEPTACHLORODIBENZOFURAN | 038998-75-3
| 2,3,4,7,8-PENTACHLORODIBENZOFURAN | 057117-31-4
| HEXACHLORODIBENZOFURAN | 055684-94-1
| PENTACHLORODIBENZOFURAN | 030402-15-4
| 2,3,7,8-TETRACHLORODIBENZOFURAN | 051207-31-9
| DIBENZOFURANS, CHLORINATED | 042934-53-2
| 1,2,3,4,6,7,8-HEPTACHLORODIBENZOFURAN | 067562-39-4
| 1,2,3,7,8,9-HEXACHLORODIBENZOFURAN | 072918-21-9
| TETRACHLORODIBENZOFURAN | 030402-14-3
| 1,2,3,6,7,8-HEXACHLORODIBENZOFURAN | 057117-44-9
| 1,2,3,4,7,8-HEXACHLORODIBENZOFURAN | 070648-26-9
| 2,3,4,6,7,8-HEXACHLORODIBENZOFURAN | 060851-34-5
| 1,2,3,7,8-PENTACHLORODIBENZOFURAN | 057117-41-6
| 1,2,3,4,7,8,9-HEPTACHLORODIBENZOFURAN | 055673-89-7
68 | TRICHLOROETHANE | 025323-89-1
69 | HEXACHLOROCYCLOPENTADIENE | 000077-47-4
70 | 1,2-DIPHENYLHYDRAZINE | 000122-66-7
71 | NANOMATERIALS |
72 | VANADIUM | 007440-62-2
73 | FORMALDEHYDE | 000050-00-0
⁽¹⁾ Various.

Submission of Nominations for the Evaluation Set 22

Proposed Substances: Today's notice also invites voluntary public nominations for substances not listed in this notice. Nominations are most useful if they include the nominator, including full name, title, affiliation, email address, and telephone number.

ATSDR will evaluate all data and information associated with nominated substances and will determine the final list of substances that will be chosen for toxicological profile development. Substances will be chosen according to ATSDR's specific guidelines for selection, found in the Selection Criteria announced in the Federal Register on May 7th, 1993 (87 FR 27288).

Please submit nominations by one of the following methods:

• E-mail: jxt1@cdc.gov.

• Fax: 770.488.4178.

• Mail: CDR Jessilynn Taylor, 1600 Clifton Rd, NE., MS F32, Atlanta, GA, 30333.

Please ensure that your comments are submitted within the specified nomination period. Nominations received after the closing date will be marked as late and may be considered only if time permits.

Dated: October 19, 2007.
Ken Rose,
Director, Office of Policy, Planning and Evaluation, National Center for Environmental Health/Agency for Toxic Substances and Disease Registry.

[FR Doc. E7-21018 Filed 10-24-07; 8:45 am]

BILLING CODE 4163-70-P